DEPARTMENT OF HEALTH AND HUMAN SERVICES

Health Resources and Service Administration

Advisory Committee on Training in Primary Care Medicine and Dentistry; Notice of Meeting

In accordance with section 10(a)(2) of the Federal Advisory Committee Act (Public Law 92-463), notice is hereby given of the following meeting:

Name: Council on Graduate Medical Education (COGME).

Dates and Times: October 29, 2015 (10:30 a.m.-4:30 p.m.).

Place: Conference Call/Webinar Format.

Status: The meeting will be open to the public.

Purpose: The COGME provides advice and recommendations to the Secretary of the Department of Health and Human Services (the Secretary) on a range of issues including the supply and distribution of physicians in the United States, current and future physician shortages or excesses, issues relating to foreign medical school graduates, the nature and financing of medical education training, and the development of performance measures and longitudinal evaluation of medical education programs. COGME's reports are submitted to the Secretary and ranking members of the Senate Committee on Health, Education, Labor, and Pensions and the House of Representatives Committee on Energy and Commerce.

HRSA will conduct an orientation for new members prior to the start of the meeting. COGME will start its official meeting at 10:30 a.m. After the orientation, discussion will focus on one of the recommendations from the March 2015 meeting, namely, to identify actions COGME can take within its current authorities to achieve the development of a National Strategic Plan for Graduate Medical Education.

Agenda: The COGME agenda will be available 2 days prior to the meeting on the HRSA Web site at http://www.hrsa.gov/advisorycommittees/bhpradvisory/cogme/index.html.

SUPPLEMENTARY INFORMATION: Requests to make oral comments or provide written comments to the COGME should be sent to Dr. Joan Weiss, Designated Federal Official, using the address and phone number below. Individuals who plan to participate on the conference call and webinar should notify Dr. Weiss at least 3 days prior to the meeting, using the address and phone number below. Members of the public will have the opportunity to provide comments. Interested parties should refer to the meeting subject as the HRSA Council on Graduate Medical Education.

• The conference call-in number is 1-800-619-2521. The passcode is: 9271697.

• The webinar link is https://hrsa.connectsolutions.com/cogme-2015/.

Contact: Anyone requesting information regarding the COGME should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Jackie Painter,
Director, Division of the Executive Secretariat.

[FR Doc. 2015-26053 Filed 10-13-15; 8:45 am]

BILLING CODE 4165-15-P